ENVIRONMENTAL PROTECTION AGENCY

[ER-FRL-9049-4]

Environmental Impact Statements; Notice of Availability

Responsible Agency: Office of Federal Activities, General Information 202-564-5632 or https://www.epa.gov/ nepa/.

Weekly receipt of Environmental Impact Statements

Filed February 3, 2020, 10 a.m. EST through February 10, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200030, Draft, USAF, TX, F-35A Operational Beddown—Air Force Reserve Command, Comment Period Ends: 03/30/2020, Contact: Hamid Kamalpour 210-925-2738

EIS No. 20200031, Final, BLM, MT, Missoula Proposed Resource Management Plan and Final EIS, Review Period Ends: 03/16/2020, Contact: Maggie Ward 406-329-3914

EIS No. 20200032, Final, BLM, MT, Lewistown Proposed Resource Management Plan and Final EIS, Review Period Ends: 03/16/2020, Contact: Dan Brunkhorst 406-538-1981

EIS No. 20200033, Final, BLM, NV, Coeur Rochester and Packard Mines POA11 Project, Review Period Ends: 03/16/2020, Contact: Kathleen Rehberg 775-623-1500

EIS No. 20200034, Draft, USFS, NC, Nantahala and Pisgah NFs DEIS for the Proposed Land Management Plan, Comment Period Ends: 05/14/2020, Contact: Heather Luczak 828-257-4817

EIS No. 20200035, Final Supplement, TVA, TN, Update of TVA's Natural Resource Plan, Review Period Ends: 03/16/2020, Contact: Matthew Higdon 865-632-8051

EIS No. 20200036, Final, BLM, ID, Programmatic EIS for Fuel Breaks in the Great Basin, Review Period Ends: 03/16/2020, Contact: Ammon Wilhelm 208-373-3824

EIS No. 20200037, Final, BLM, ID, Four Rivers Field Office Proposed Resource Management Plan and Final Environmental Impact Statement, Review Period Ends: 03/16/2020, Contact: Brent Ralston 208-384-3300

EIS No. 20200038, Final, FRA, MS, Port Bienville Railroad Combined Final Environmental Impact Statement and Record of Decision, Contact: Kevin Wright 202-493-0845

Under 23 U.S.C. 139(n)(2), FRA has issued a single document that consists of a final environmental impact statement and record of decision. Therefore, the 30-day wait/review period under NEPA does not apply to this action.

Dated: February 10, 2020.
Cindy S. Barger,
Director, NEPA Compliance Division, Office of Federal Activities.

[FR Doc. 2020-03027 Filed 2-13-20; 8:45 am]

BILLING CODE 6560-50-P